DEPARTMENT OF STATE

Bureau of Nonproliferation

[Public Notice 4676]

Termination of Chemical and Biological Weapons Proliferation Sanctions Against a Foreign Person

SUMMARY: The United States Government has determined to terminate sanctions imposed on a foreign person who had engaged in chemical weapons proliferation activities that required the imposition of sanctions pursuant to the Arms Export Control Act and the Export Administration Act of 1979.

EFFECTIVE DATE: April 1, 2004.

FOR FURTHER INFORMATION CONTACT: Vann H. Van Diepen, Office of Chemical, Biological and Missile Nonproliferation, Bureau of Nonproliferation, Department of State (202-647-1142).

SUPPLEMENTARY INFORMATION: Pursuant to Section 81(d) of the Arms Export Control Act (22 U.S.C. 2798(d)) and Section 11C(d) of the Export Administration Act of 1979, as amended (50 U.S.C. app. 2410c(d)), the Under Secretary of State for Arms Control and International Security Affairs determined and certified to Congress that reliable information indicated that the following foreign person has ceased to aid or abet any foreign government, project, or entity in its efforts to acquire chemical and biological weapons capability: Anatoliy Kuntsevich

This determination and certification terminates the sanctions imposed on this foreign person in 1995 pursuant to Section 81(a) and (c) of the Arms Export Control Act and Section 11C(a) and (c) of the Export Administration Act. (60 FR 62526.):

Dated: March 26, 2004.
John S. Wolf,
Assistant Secretary of State for Nonproliferation, Department of State.

[FR Doc. 04-7340 Filed 3-31-04; 8:45 am]

BILLING CODE 4710-25-P